DEPARTMENT OF ENERGY

Federal Energy Regulatory Commission

[Docket No. IC10-729-000]

Commission Information Collection Activities (FERC-729); Comment Request; Extension

October 6, 2009.

AGENCY: Federal Energy Regulatory Commission, DOE.

ACTION: Notice of proposed information collection and request for comments.

SUMMARY: In compliance with the requirements of section 3506(c)(2)(a) of the Paperwork Reduction Act of 1995 (Pub. L. 104-13), the Federal Energy Regulatory Commission (Commission or FERC) is soliciting public comment on the specific aspects of the information collection described below.

DATES: Comments in consideration of the collection of information are due December 15, 2009.

ADDRESSES: Comments may be filed either electronically or in paper format, and should refer to Docket No. IC10-729-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and two (2) copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC10-729. For user assistance, contact FERC Online Support (e-mail at ferconlinesupport@ferc.gov, or call toll-free at (866) 208-3676, or for TTY, contact (202) 502-8659).

FOR FURTHER INFORMATION CONTACT: Ellen Brown may be reached by telephone at (202) 502-8663, by fax at (202) 273-0873, and by e-mail at ellen.brown@ferc.gov.

SUPPLEMENTARY INFORMATION: FERC-729 (“Electric Transmission Facilities,” OMB Control No. 1902-0238) covers the reporting requirements ¹ of 18 CFR part 50, and, as relates to transmission facilities, 18 CFR 380.3(c)(3), 380.5(b)(14), 380.6(a)(5), 380.15(d), and 380.16.

¹ These requirements were promulgated by Order 689, issued November 16, 2006, in Docket No. RM06-12, in accordance with section 1221 of the Energy Policy Act of 2005: (a) To establish filing requirements and procedures for entities seeking to construct or to modify electric transmission facilities, and (b) to coordinate the processing of Federal authorizations and the environmental review of electric transmission facilities in designated national interest electric transmission corridors. (Order 689 is available in FERC's eLibrary at http://elibrary.ferc.gov/idmws/search/intermediate.asp?link_file=yes&doclist=4455911.)

The purpose of these regulations is to implement the Commission's mandates under EPAct 2005 section 1221 which authorizes the Commission to issue permits under FPA section 216(b) for electric transmission facilities and the Commission's delegated responsibility to coordinate all other Federal authorizations under FPA section 216(h). The related FERC regulations seek to develop a timely review process for siting of proposed electric transmission facilities. The regulations provide for, among other things, an extensive pre-application process that will facilitate maximum participation from all interested entities and individuals to provide them with a reasonable opportunity to present their views and recommendations, with respect to the need for and impact of the facilities, early in the planning stages of the proposed facilities as required under FPA section 216(d).

Additionally, under FPA section 216(b)(1)(C), FERC has the authority to issue a permit to construct electric transmission facilities if a state has withheld approval for more than a year or has conditioned its approval in such a manner that it will not significantly reduce transmission congestion or is not economically feasible. FERC envisions that, under certain circumstances, the Commission's review of the proposed facilities may take place after one year of the state's review. Accordingly, under section 50.6(e)(3) the Commission will not accept applications until one year after the state's review and then from applicants who can demonstrate that a state may withhold or condition approval of proposed facilities to such an extent that the facilities will not be constructed.² In cases where FERC's jurisdiction rests on FPA section 216(b)(1)(C),³ the pre-filing process should not commence until one year after the relevant State applications have been filed. This will give the States one full year to process an application without any intervening Federal proceedings, including both the pre-filing and application processes. Once that year is complete, an applicant may seek to commence FERC's pre-filing process. Thereafter, once the pre-filing process is complete, the applicant may submit its application for a construction permit.

² However, the Commission will not issue a permit authorizing construction of the proposed facilities until, among other things, it finds that the state has, in fact, withheld approval for more than a year or had so conditioned its approval.

³ In all other instances (i.e., where the state does not have jurisdiction to act or otherwise to consider interstate benefits, or the applicant does not qualify to apply for a permit with the State because it does not serve end use customers in the State), the pre-filing process may be commenced at any time.

The environmental report includes information on areas such as: aquatic life, wildlife, and vegetation and the expected impacts on them; cultural resources; socioeconomics; geological resources; soils, land use, recreation, and aesthetics; alternatives; buildings; and reliability and safety.

Without the information collection, FERC would not be able to fulfill its statutory mandates to review requests for permits for transmission facilities, and to coordinate related Federal authorizations.

Action: FERC is requesting a three-year extension of the current FERC-729 reporting requirements, with no change.

Burden Statement: The estimated, annual public reporting burden for FERC-729 follows.

FERC information collection | Annual No. of respondents | Average No. of responses per respondent | Average burden hours per response | Total annual burden hours
| (1) | (2) | (3) | (1) × (2) × (3)
FERC-729 | 10 | 1 | 9,600 | 96,000

The total estimated annual cost burden ⁴ to respondents is $7,680,000 (96,000 hours × $80 per hour ⁴).

⁴ Based on the Bureau of Labor Statistics “Occupational Outlook Handbook (OOH), 2008-09 Edition,” Occupational Employment Statistics (Occupational Employment and Wages, for May 2008, for Lawyers (23-1011), posted at http://www.bls.gov/oes/current/oes231011.htm), FERC is using $80 per hour. Other professions (such as engineers and administrators) are involved in preparing the filing. We are using $80 per hour as a high-end figure to include all of the professions involved with preparation of the filing.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-24575 Filed 10-13-09; 8:45 am]

BILLING CODE 6717-01-P